FEDERAL ELECTION COMMISSION

Sunshine Act Meeting Notices

AGENCY: Federal Election Commission

Date and Time: Thursday, January 13, 2005 at 10

Place: 999 E Street, NW., Washington, DC (ninth floor)

Status: This meeting will be open to the public.

ITEMS TO BE DISCUSSED: Correction and Approval of Minutes.

Notice of Proposed Rulemaking on Definition of Agent for BCRA Regulations on Coordinated and Independent Expenditures and Non-Federal Funds or Soft Money (11 CFR 109.3 and 300.2(b)).

Future Meeting Dates.

Routine Administrative Matters.

INFORMATION CONTACT: Mr. Robert Biersack, Press Officer, Telephone: (202) 694-1220.

Mary W. Dove,
Secretary of the Commission.

[FR Doc. 05-540 Filed 1-6-04; 8:45 am]

BILLING CODE>6715-01-M